DEPARTMENT OF COMMERCE

National Oceanic and Atmospheric Administration

[I.D. 081706A]

New England Fishery Management Council; Public Meeting

AGENCY: National Marine Fisheries Service (NMFS), National Oceanic and Atmospheric Administration (NOAA), Commerce

ACTION: Notice; public meetings.

SUMMARY: The New England Fishery Management Council (Council) is scheduling public meetings of its Standardized Bycatch Reporting Methodology (SBRM) Committee in September, 2006 to consider actions affecting New England fisheries in the exclusive economic zone (EEZ). Recommendations from this group will be brought to the full Council for formal consideration and action, if appropriate.

DATES: These meetings will be held on Wednesday, September 6, 2006, at 10 a.m. and Monday, September 25, 2006,at 10 a.m.

ADDRESSES: The September 6 meeting will be held at the Hilton Garden Inn, One Thurber Street, Warwick, RI 02886; telephone: (401) 734-9600; fax: (401) 734-9700. The September 25 meeting will be held at the Homeward Suites Hotel, 57 Newbury Street, Peabody, MA 01960; telephone: (978) 536-5050; fax: (978) 535-6840.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The schedules and agendas for the meetings are as follows:

1. Wednesday, September 6, 2006; SBRM Committee meeting.

The Committee will review the New England and Mid-Atlantic Council's Science and Statistical Committees (SSCs) meeting results. The SSCs conducted a peer-review of the analytical framework and analyses supporting the development of the Omnibus SBRM amendment to the Council's FMPs. In addition, the Committee will review progress of the Fishery Management Action Team (FMAT) on the development of the SBRM amendment.

2. Monday, September 25, 2006; SBRM Committee meeting.

The Committee will review the public hearing draft of the Omnibus SBRM amendment to the Council's FMPs and develop a recommendation for both Councils as to approving the draft amendment. The Committee will report its recommendations to the New England Council at its meeting on September 26-28, 2006 and to the Mid-Atlantic Council at its meeting on October 10-12, 2006.

Although non-emergency issues not contained in these agendas may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at 978-465-0492, at least 5 days prior to the meeting date.

Authority: 16 U.S.C. 1801 et seq.

Dated: August 17, 2006.
James P. Burgess,
Acting Director, Office of Sustainable Fisheries, National Marine Fisheries Service.

[FR Doc. E6-13929 Filed 8-22-06; 8:45 am]

BILLING CODE 3510-22-S